ENVIRONMENTAL PROTECTION AGENCY

[FRL-6966-1]

Office of Research and Development; Board of Scientific Counselors, Executive Committee Meeting

AGENCY: Environmental Protection Agency (EPA).

ACTION: Notice of meeting.

SUMMARY: Pursuant to the Federal Advisory Committee Act, Public Law 92-463, as amended (5 U.S.C., App. 2) notification is hereby given that the Environmental Protection Agency, Office of Research and Development (ORD), Board of Scientific Counselors (BOSC), will hold an Executive Committee Meeting.

DATES: The Meeting will held on May 7-8, 2001. On Monday, May 7, the Meeting will begin at 1:00 p.m., and will recess at 4:30 p.m. On Tuesday, May 8, the Meeting will reconvene at 9:00 a.m. and will adjourn at approximately 4:30 p.m. All times noted are Eastern Time.

ADDRESSES: The Meeting will be held at the Ronald Reagan Building, 1300 Pennsylvania Avenue, N.W., Meridan D&E Conference Room, Washington, D.C. 20004.

SUPPLEMENTARY INFORMATION: Agenda items will include, but not be limited to: BOSC upcoming activities, including Laboratory/Center Sub-Committee appointments and agenda for site visits, BOSC's work plan for the Communications Sub-Committee, and presentations of ORD's Laboratory/Center Strategic Plans.

Anyone desiring a draft agenda may fax their request to Shirley R. Hamilton at (202) 565-2444. The meeting is open to the public. Any member of the public wishing to make a presentation at the meeting should contact Shirley Hamilton, Designated Federal Officer, U.S. Environmental Protection Agency, Board of Scientific Counselors, Office of Research and Development (8701R), 1200 Pennsylvania Avenue, N.W., Washington, DC 20460; or by telephone at (202) 564-6853. In general each individual making an oral presentation will be limited to a total of three minutes.

FOR FURTHER INFORMATION CONTACT: Shirley R. Hamilton, Designated Federal Officer, U.S. Environmental Protection Agency, Office of Research and Development, (8701R), 1200 Pennsylvania Avenue, NW., Washington, DC 20460, (202) 564-6853.

Dated: April 4, 2001.
Peter W. Preuss,
Director, National Center for Environmental Research.

[FR Doc. 01-9053 Filed 4-11-01; 8:45 am]

BILLING CODE 6560-50-M